FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel—Operating Common Carrier Ocean Transportation Intermediary Applicants:

Summit Logistics, Inc., 15215 S. 48th Street, No. 161, Phoenix, AZ 85044, Officers: Chris Kim, President, (Qualifying Individual), Rick An, Vice President

Lenex Global Xpress, Inc., 2825 Plaza Del Amo, Unit 154, Torrance, CA 90503, Officer: Steven Joon Kang, President, (Qualifying Individual)

Non-Vessel-Operating Common Carrier and Ocean Freight Forwarder Transportation Intermediary Applicants:

Intership Logistics, LLC, 6426 NW. 5th Way, Fort Lauderdale, FL 33309, Officers: Mark McGovern, Vice President, (Qualifying Individual), David Buonerba, President

Cruise Logistics LLC, 11013 NW. 30th Street, Ste. 100, Miami, FL 33172, Officer: Jesper H. Dahl, Managing Member, (Qualifying Individual)

Star Global (North America), Ltd., 149-35 77th Street, Jamaica, NY 11434, Officers: Anthony Chan, President, (Qualifying Individual), Dr. H. Henning Maier, Director

River Bend Transport Company 300 Three Rivers Parkway, North Bend, OH 45052, Officers: Sean G. Burke, Vice President, (Qualifying Individual), Kevin D. Adams, President

Horizons Worldwide International Forwarder Inc., dba Atlas Logistics (USA) Inc., 6675 Eastland Road, Middleburg Hts, OH 44130, Officer: Edward M. Zarefoss, President, (Qualifying Individual)

Ocean Freight Forwarder—Ocean Transportation Intermediary

Applicant: AES Worldwide, 16040 Christensen Road, #306, Tukwila, WA 98188, Officers: Debra K. Johnson, Vice President, (Qualifying Individual), Anne Schwieger, President

Dated: April 21, 2006.
Bryant L. VanBrakle,
Secretary.

[FR Doc. E6-6281 Filed 4-25-06; 8:45 am]

BILLING CODE 6730-01-P